DEPARTMENT OF COMMERCE

Foreign-Trade Zones Board

[B-23-2022]

Foreign-Trade Zone 163—Ponce, Puerto Rico; Application for Subzone; Petro Air Corporation, Carolina, Puerto Rico

An application has been submitted to the Foreign-Trade Zones (FTZ) Board by CODEZOL, C.D., grantee of FTZ 163, requesting subzone status for the facility of Petro Air Corporation, located in Carolina, Puerto Rico. The application was submitted pursuant to the provisions of the Foreign-Trade Zones Act, as amended (19 U.S.C. 81a-81u), and the regulations of the FTZ Board (15 CFR part 400). It was formally docketed on May 31, 2022.

The proposed subzone (0.80 acres) is located at World Fuel—Petro Air Facility, PR-26 LMM Airport, Calle José Santana Interior, Carolina, Puerto Rico. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is July 18, 2022. Rebuttal comments in response to material submitted during the foregoing period may be submitted during the subsequent 15-day period to August 1, 2022.

A copy of the application will be available for public inspection in the “Online FTZ Information Section” section of the FTZ Board's website, which is accessible via www.trade.gov/ftz.

For further information, contact Camille Evans at Camille.Evans@trade.gov.

Dated: May 31, 2022.
Andrew McGilvray,
Executive Secretary.

[FR Doc. 2022-12081 Filed 6-3-22; 8:45 am]

BILLING CODE 3510-DS-P